DEPARTMENT OF AGRICULTURE

Animal and Plant Health Inspection Service

[Docket No. 05-022-1]

Notice of Request for Approval of an Information Collection; Voluntary “Do Not Sell” List of Invasive Plant Species

AGENCY: Animal and Plant Health Inspection Service, USDA.

ACTION: New information collection; comment request.

SUMMARY: In accordance with the Paperwork Reduction Act of 1995, this notice announces the Animal and Plant Health Inspection Service's intention to request approval of a new information collection activity associated with a voluntary “do not sell” list of invasive plant species for Florida nurseries.

DATES: We will consider all comments that we receive on or before November 28, 2005.

ADDRESSES: You may submit comments by either of the following methods:

• EDOCKET: Go to http://www.epa.gov/feddocket to submit or view public comments, access the index listing of the contents of the official public docket, and to access those documents in the public docket that are available electronically. Once you have entered EDOCKET, click on the “View Open APHIS Dockets” link to locate this document.

• Postal Mail/Commercial Delivery: Please send four copies of your comment (an original and three copies) to Docket No. 05-022-1, Regulatory Analysis and Development, PPD, APHIS, Station 3C71, 4700 River Road Unit 118, Riverdale, MD 20737-1238. Please state that your comment refers to Docket No. 05-022-1.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: You may view APHIS documents published in the Federal Register and related information on the Internet at http://www.aphis.usda.gov/ppd/rad/webrepor.html.

FOR FURTHER INFORMATION CONTACT: For information on the voluntary “do not sell” list of invasive plant species for Florida nurseries, contact Dr. Barney Caton, Ecologist and Pest Risk Analyst, Center for Plant Health Science and Technology, PPQ, 1730 Varsity Drive, Suite 300, Raleigh, NC 27607; (919) 855-7504. For copies of more detailed information on the information collection, contact Mrs. Celeste Sickles, APHIS’s Information Collection Coordinator, at (301) 734-7477.

SUPPLEMENTARY INFORMATION: Title: Voluntary “Do Not Sell” List of Invasive Plant Species.

OMB Number: 0579-XXXX.

Type of Request: Approval of a new information collection.

Abstract: In 2001, the Florida Nursery, Growers, & Landscape Association (FNGLA), in cooperation with the Florida Exotic Pest Plant Council (FLEPPC), created and promoted a list of known invasive plant species that should not be grown or sold in Florida nurseries. Forty-three plant species were chosen for the list. A voluntary effort by nurseries to limit trade in these species is a potentially worthwhile approach to safeguarding U.S. ecosystems from invasive plants. The effectiveness of the voluntary program on trade in these species since 2001 has not been fully studied, however.

The Animal and Plant Health Inspection Service (APHIS) of the U.S. Department of Agriculture is responsible for safeguarding the United States against plant pests and noxious weeds. A recent assessment by the Center for Plant Health Science and Technology, Plant Protection and Quarantine, APHIS, indicated that availability in Florida nurseries of the 43 species on the FNGLA list has not changed since 1999. APHIS proposes to conduct a single survey of owners and managers of Florida nurseries and plant dealers to determine how many were aware of the program, whether they were complying if they were aware of it, and whether they would have complied if they had known about it. The results of the survey will help APHIS learn how well such voluntary “do not sell” programs may be accepted by owners and managers of nurseries and plant dealers and how effective such programs may be.

We are asking the Office of Management and Budget (OMB) to approve the information collection activity associated with the voluntary “do not sell” list of invasive species for Florida nurseries.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.5 hour per response.

Respondents: Owners and managers of nurseries, and nursery stock dealers in Florida.

Estimated annual number of respondents: 200.

Estimated annual number of responses per respondent: 1.

Estimated annual number of responses: 200.

Estimated total annual burden on respondents: 100 hours. (Due to averaging, the total annual burden hours may not equal the product of the annual number of responses multiplied by the reporting burden per response.)

All responses to this notice will be summarized and included in the request for OMB approval. All comments will also become a matter of public record.

Done in Washington, DC, this 23rd day of September 2005.
Elizabeth E. Gaston,
Acting Administrator, Animal and Plant Health Inspection Service.

[FR Doc. 05-19453 Filed 9-28-05; 8:45 am]

BILLING CODE 3410-34-P